DEPARTMENT OF LABOR

Employment & Training Administration

[SGA/DFA-PY 08-17]

Solicitation for Grant Applications (SGA); Amendment One; State Labor Market Information Improvement Grants

AGENCY: Employment and Training Administration (ETA), Labor.

ACTION: Notice: Amendment to SGA/DFA-PY 08-17.

SUMMARY: The Employment and Training Administration published a document in the Federal Register on June 24, 2009, announcing the availability of funds and solicitation for grant applications (SGA) for State Labor Market Information Improvement Grants to be awarded through a competitive process. This amendment to the SGA clarifies items related to: (1) Strategies and Approaches (Section I.B.3.ii); (2) Evaluation Criteria, Deliverables (Section V.A.4.iii); (3) the number of applications from a Single State (Section III.A); and (4) Section B on Green Industries and Occupations (Supplementary Information). The changes in items 1 and 2 below were made in order to make the terminology for certificates or degrees match existing ETA definitions. The changes in items 3 and 4 below are to provide further clarification on number of applications per Single State and targeted industries. The document is hereby amended.

1. Section I.B.3.ii, “Funding Opportunity Description, Strategies and Approaches, Related Research Activities” (page 30131) is revised by replacing the language designated below as “old text” with the language designated as “new text”:

a. Old text: “State-specific summaries of educational resources including post-secondary and higher educational institutions' courses and programs leading to industry-recognized credentials, certifications, or degrees;”

b. New text: “State-specific summaries of educational resources including post-secondary and higher educational institutions' courses and programs leading to certificates or degrees;”

2. Section V.A.4.iii, “Application Review Information, Evaluation Criteria, Deliverables” (page 30136) is revised by replacing the language designated below as “old text” with the language designated as “new text”:

a. Old text: “State-specific summaries of educational resources including post-secondary and higher educational institutions' courses and programs leading to industry-recognized credentials, certifications, or degrees;”

b. New text: “State-specific summaries of educational resources including post-secondary and higher educational institutions' courses and programs leading to certificates or degrees;”

3. Section III.A, “Eligibility Information, Eligible Applicants” (page 30131) is clarifying the number of applications that a Single State can submit. Accordingly, Section III.A. on p. 30131 is revised by replacing the language designated below as “old text” with the language designated as “new text”:

a. Old text: “Applicants must clearly indicate in the required grant abstract if they are applying as an individual State or as a consortium. Consortium applications must identify each participating State and designate a lead State as the applicant that will have the overall responsibility for administering the grant. The consortium lead State will coordinate reporting activities and must serve as the fiscal agent. Consortium applications will not count against the `single application' per State limit for the partnering States, provided that the consortium proposal includes original strategies and is not duplicative of the strategies and deliverables included in the participating States' individual applications.”

b. New text: “Applicants must clearly indicate in the required grant abstract if they are applying as an individual State or as a consortium. Consortium applications must identify each participating State and designate a lead State as the applicant that will have the overall responsibility for administering the grant. The consortium lead State will coordinate reporting activities and must serve as the fiscal agent. States may submit one application as a single State as well as one application as a consortium lead State. There is no limit to the number of consortium applications a State may be included with as a participating partner, provided that the consortium proposals include original strategies and are not duplicative of the strategies and deliverables included in the participating States' individual applications.”

4. SUPPLEMENTARY INFORMATION, Section B “Green Industries and Occupations” on p. 30129 is revised to include the following statement:

New Text: “We will also evaluate applications for projects that include emerging green occupations from industries that have not been discussed in this section.”

FOR FURTHER INFORMATION CONTACT: Willie Harris, Grant Officer, Division of Federal Assistance, at (202) 693-3344.

Signed at Washington, DC this 17th day of July, 2009.
Donna Kelly,
Grant Officer, Employment & Training Administration.

[FR Doc. E9-17413 Filed 7-21-09; 8:45 am]

BILLING CODE 4510-FN-P